DEPARTMENT OF HEALTH AND HUMAN SERVICES

Centers for Disease Control and Prevention

[60Day-14-14CP]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 or send comments to CDC LeRoy Richardson, 1600 Clifton Road, MS D-74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Performance Monitoring and Budget Tracking Tool for the National Center for Chronic Disease Prevention and Health Promotion (NCCDPHP)—New—National Center for Chronic Disease Prevention and Health Promotion (NCCDPHP), Centers for Disease Control and Prevention (CDC).

Background and Brief Description

The Centers for Disease Control and Prevention (CDC) provides funding and technical assistance to states, Territories, the District of Columbia, and other entities to improve public health and reduce the economic toll of chronic diseases. In June 2013, the National Center for Chronic Disease Prevention and Health Promotion (NCCDPHP) initiated a new set of cooperative agreements under Funding Opportunity Announcement (FOA) DP13-1305, “State Public Health Actions to Prevent and Control Diabetes, Heart Disease, Obesity and Associated Risk Factors and Promote School Health.” The new program is designed to support an integrated approach to preventing and managing chronic conditions that share common risk factors. All 50 states and the District of Columbia were initially funded for up to five years. Two types of awards were issued. Nineteen awardees received funding at the Basic level and 32 awardees received additional funding for Enhanced activities. All DP13-1305 awardees are required to prepare performance work plans, collect program-specific performance measures, and submit annual progress reports that serve as continuation applications. In addition, the new FOA requires awardees to organize program activities and strategies according to four essential domains: (1) Epidemiology and surveillance; (2) Environmental approaches that promote health and support and reinforce healthful behaviors; (3) Health system interventions to improve the effective delivery and use of clinical and other preventive services; and (4) Community-clinical linkages to support cardiovascular disease (CVD) and diabetes prevention and control efforts and the management of chronic diseases. Awardees funded at the Basic level will focus on Domain 1. Awardees funded at the Enhanced level will add activities in Domains 2, 3, and 4.

The four domains framework promotes simultaneous work to address multiple chronic diseases and risk factors. Domain 1 encompasses both epidemiologic and surveillance methods to support gathering, analyzing, and disseminating population health data and evaluation methods to inform, prioritize, and monitor the delivery of the interventions in Domains 2-4. Domain 2 includes interventions that address the underlying causes of chronic disease. Domains 3 and 4 include interventions that strengthen systems and resources for early detection and better management of chronic diseases. Collectively, the work to be conducted through this framework can result in a healthier society that delivers healthier students to our schools and early care and education centers, healthier workers to our businesses and employers, and a healthier population to the health care system.

CDC plans to request Office of Management and Budget (OMB) approval for an Internet-based performance monitoring and budget tracking tool for awardees under FOA DP13-1305. CDC will collect performance monitoring information to assure compliance with cooperative agreement requirements, evaluate progress made in achieving program-specific performance measures, and obtain information needed to respond to inquiries about program activities and effectiveness from Congress and other sources. Budget information will be collected and tracked to assure proper disbursement of, and accounting for, funds awarded.

Additionally, the tool will identify training and technical assistance needs, and support program evaluation. CDC is considering adding evaluation and success story components to the tool. A final decision will be made once work plans and budgets are finalized.

Awardees will enter information into the electronic tool and submit reports to CDC once per year. Separate reports will be required for activities conducted under Basic awards and Enhanced awards. CDC anticipates that burden to respondents will be greatest during the initial population (data entry) of the work plan and budget. Thereafter, the estimated burden for ongoing data entry, system maintenance, and annual progress reporting will be reduced.

OMB approval is requested for three years. There are no costs to respondents other than their time.

Estimated Annualized Burden Hours
Type of respondents | Form name | Number of respondents | Number of responses per respondent | Average burden per response (in hours) | Total burden (in hours)
FOA 1305 Program Awardees Basic Level | Initial Work Plan and Budget | 6 | 1 | 9.5 | 57
| Annual Progress Report | 19 | 1 | 75/60 | 24
FOA 1305 Program Awardees Enhanced Level | Initial Work Plan and Budget | 11 | 1 | 21 | 231
| Annual Progress Report | 32 | 1 | 3.5 | 112
Total |  |  |  |  | 424

Leroy A. Richardson,
Chief, Information Collection Review Office, Office of Scientific Integrity, Office of the Associate Director for Science, Office of the Director, Centers for Disease Control and Prevention.

[FR Doc. 2013-28217 Filed 11-22-13; 8:45 am]

BILLING CODE 4163-18-P